DEPARTMENT OF THE INTERIOR

Geological Survey

[GX19ZQ00G402A00; OMB Control Number 1028-NEW]

Agency Information Collection Activities: ShakeAlert Community Feedback Form

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before September 16, 2019.

ADDRESSES: Send your comments on this information collection request (ICR) by mail to U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this ICR, contact Sara K. McBride by email at skmcbride@usgs.gov or by telephone at 650-750-5270.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This research is to assist development of the West Coast Earthquake Early Warning System that will send the public a ShakeAlert before they feel shaking from an earthquake that has started. As part of the ShakeAlert, the West Coast Early Warning system, we need to understand how long it will take to get messages to people's phones via wireless emergency alerts (WEA), applications (apps) or another alerting platform. We will be collecting the information via community feedback forms or surveys. These feedback forms will be made available via media, social media, and internal emails. The information being collected is temporal information and our alerting platforms; namely: Wireless Emergency Alerts (WEA), mobile applications (APPS), sirens, and broadcast alerts. Participants will be asked to provide exact timings in terms of when alerts were delivered to either their devices or themselves, to determine system latency. They will be asked to provide details about their devices, mobile network, and proximate location (address, zip code, or building name). The final four questions explore what people know about the system, preferred delivery channels, and messaging priorities.

Title of Collection: ShakeAlert Community Feedback Form.

OMB Control Number: 1028-NEW.

Form Number: NA.

Type of Review: New.

Respondents/Affected Public: Individuals/households.

Total Estimated Number of Annual Respondents: 2,000.

Total Estimated Number of Annual Responses: 2,000.

Estimated Completion Time per Response: Six minutes.

Total Estimated Number of Annual Burden Hours: 200.

Respondent's Obligation: Voluntary.

Frequency of Collection: Once per year.

Total Estimated Annual Nonhour Burden Cost: None.

An agency may not conduct or sponsor and a person is not required to respond to a collection of information unless it displays a currently valid OMB control number.

The authority for this action is the Paperwork Reduction Act of 1995 (44 U.S.C. 3501 et seq.).

Douglas Given,
ShakeAlert Project Coordinator.

[FR Doc. 2019-15154 Filed 7-16-19; 8:45 am]

BILLING CODE 4338-11-P